Title 3—

The President

Proclamation 8260 of May 22, 2008

Prayer for Peace, Memorial Day, 2008

By the President of the United States of America

A Proclamation

On Memorial Day, we honor the heroes who have laid down their lives in the cause of freedom, resolve that they will forever be remembered by a grateful Nation, and pray that our country may always prove worthy of the sacrifices they have made.

Throughout our Nation's history, our course has been secured by brave Soldiers, Sailors, Airmen, Marines, and Coast Guardsmen. These courageous and selfless warriors have stepped forward to protect the Nation they love, fight for America's highest ideals, and show millions that a future of liberty is possible. Freedoms come at great costs, yet the world has been transformed in unimaginable ways because of the noble service and devotion to duty of these brave individuals. Our country honors the sacrifice made by those who have given their lives to spread the blessings of liberty and lay the foundations of peace, and we mourn their loss.

Today, our service men and women continue to inspire and strengthen our Nation, going above and beyond the call of duty as part of the greatest military the world has ever known. Americans are grateful to all those who have put on our Nation's uniform and to their families, and we will always remember their service and sacrifice for our freedoms.

On this solemn day our country unites to pay tribute to the fallen, who demonstrated the strength of their convictions and paid the cost of freedom. We pray for the members of our Armed Forces and their families, and we ask for God's continued guidance of our country.

In respect for their devotion to America, the Congress, by a joint resolution approved on May 11, 1950, as amended (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby proclaim Memorial Day, May 26, 2008, as a day of prayer for permanent peace, and I designate the hour beginning in each locality at 11:00 a.m. of that day as a time to unite in prayer. I also ask all Americans to observe the National Moment of Remembrance beginning at 3:00 p.m., local time, on Memorial Day. I encourage the media to participate in these observances. I also request the Governors of the United States and the Commonwealth of Puerto Rico, and the appropriate officials of all units of government, to direct that the flag be flown at half staff until noon on this Memorial Day on all buildings, grounds, and naval vessels throughout the United States, and in all areas under its jurisdiction and control. I also request the people of the United States to display the flag at half staff from their homes for the customary forenoon period.

IN WITNESS WHEREOF, I have hereunto set my hand this twenty-second day of May, in the year of our Lord two thousand eight, and of the Independence of the United States of America the two hundred and thirty-second.

[FR Doc. 08-1306

Filed 5-27-08; 9:05 am]

Billing code 3195-01-P